DEPARTMENT OF THE TREASURY

Internal Revenue Service

26 CFR Part 1

[REG-106282-18]

RIN 1545-BP35

Limitation on Deduction for Dividends Received From Certain Foreign Corporations and Amounts Eligible for Section 954 Look-Through Exception; Correction

AGENCY: Internal Revenue Service (IRS), Treasury.

ACTION: Correction to a notice of proposed rulemaking by cross-reference to temporary regulations.

SUMMARY: This document contains a correction to notice of proposed rulemaking by cross-reference to temporary regulations (REG-106282-18) that was published in the Federal Register on Tuesday, June 18, 2019.

DATES: Written or electronic comments and requests for a public hearing for the notice of proposed rulemaking by cross-reference to temporary regulations at 84 FR 28426, June 18, 2019, are still being accepted and must be received by September 16, 2019.

ADDRESSES: Send Submissions to CC:PA:LPD:PR (REG-106282-18), Room 5203, Internal Revenue Service, P.O. Box 7604, Ben Franklin Station, Washington, DC 20044. Submissions may be hand-delivered Monday through Friday between the hours of 8 a.m. and 4 p.m. to CC:PA:LPD:PR (REG-106282-18), Courier's Desk, Internal Revenue Service, 1111 Constitution Avenue NW, Washington, DC 20224. Alternatively, taxpayers may submit comments electronically, via the Federal eRulemaking Portal at http://www.regulations.gov (IRS REG-106282-18).

FOR FURTHER INFORMATION CONTACT: Concerning the proposed regulations, Logan M. Kincheloe, (202) 317-6937; concerning submission of comments and/or requests for a hearing Regina Johnson at (202) 317-6901 (not toll-free numbers).

SUPPLEMENTARY INFORMATION:

Background

This correction to the notice of proposed rulemaking (REG-106282-18) that is the subject of this document is issued under sections 245A, 954, and 6038 of the Internal Revenue Code.

Need for Correction

As published, the notice of proposed rulemaking by cross-reference to temporary regulations (REG-106282-18) contains errors that may prove to be misleading and are in need of clarification.

Correction to Publication

Accordingly, the notice of proposed rulemaking by cross-reference to temporary regulations, FR 2019-12441, published at 84 FR 28426, June 18, 2019, is corrected as follows:

1. On page 28426, the first column, under the caption SUMMARY, the third line from the bottom of the last paragraph, the language “controlled foreign that receive certain” is corrected to read “controlled foreign corporations that receive certain”.

2. On page 28427, in the first column, under the last line of the paragraph before the caption Comments and Request Public Hearing section add the following sections:

III. Unfunded Mandates Reform Act

The assessment of costs and benefits under the Unfunded Mandated Reform Act of these proposed regulations are explained in the temporary regulations under 245A, 954(c)(6), and 6038 published in 84 FR 28398 (June 18, 2019).

IV. Executive Order 13132: Federalism

The assessment of the federalism implications as required under Executive Order 13132 of these proposed regulations is explained in the temporary regulations under sections 245A, 954(c)(6), and 6038 published in 84 FR 28398 (June 18, 2019).

§ 1.245A-1 [Corrected]

3. On page 28427, second column, the amendatory instruction Par, 2, the language “Reserved sections 1.245A-1 through and § 1.245A-5 are added to read as follows:” is corrected to read “Add and reserve §§ 1.245A-1 through 1.245A-4 and add § 1.245A-5 to read as follows: ”.

Martin V. Franks,
Chief, Publications and Regulations Branch, Legal Processing Division, Associate Chief Counsel, (Procedure and Administration).

[FR Doc. 2019-16632 Filed 8-7-19; 8:45 am]

BILLING CODE 4830-01-P